DEPARTMENT OF TRANSPORTATION

Federal Aviation Administration

14 CFR Part 21

Existence of Proposed Airworthiness Design Standards for Acceptance Under the Primary Category Rule; Orlando Helicopter Airways (OHA), Inc., Models Cessna 172I, 172K, 172L, and 172M

AGENCY: Federal Aviation Administration (FAA), DOT.

ACTION: Request for comments.

SUMMARY: This notice announces the existence of and requests comments on the proposed airworthiness design standards for acceptance of the OHA, Inc., Models Cessna 172I, 172K, 172L, and 172M airplanes under the regulations for primary category aircraft.

DATES: Comments must be received on or before July 21, 2010.

ADDRESSES: Send all comments to the Federal Aviation Administration (FAA), Standards Office, Small Airplane Directorate (ACE-111), Aircraft Certification Service, 901 Locust Street, Room 301, Kansas City, MO 64106.

FOR FURTHER INFORMATION CONTACT: Mr. Leslie B. Taylor, Aerospace Engineer, Standards Office (ACE-111), Small Airplane Directorate, Aircraft Certification Service, FAA; telephone number (816) 329-4134, fax number (816) 329-4090, e-mail at leslie.b.taylor@faa.gov.

SUPPLEMENTARY INFORMATION: Any person may obtain a copy of this information by contacting the person named above under FOR FURTHER INFORMATION CONTACT.

Comments Invited

We invite interested parties to submit comments on the proposed airworthiness standards to the address specified above. Commenters must identify the OHA Models Cessna 172I, 172K, 172L, and 172M and submit comments to the address specified above. The FAA will consider all communications received on or before the closing date before issuing the final acceptance. The proposed airworthiness design standards and comments received may be inspected at the FAA, Small Airplane Directorate, Aircraft Certification Service, Standards Office (ACE-110), 901 Locust Street, Room 301, Kansas City, MO 64106, between the hours of 7:30 a.m. and 4 p.m. weekdays, except Federal holidays.

Background

The “primary” category for aircraft was created specifically for the simple, low performance personal aircraft. Section 21.17(f) provides a means for applicants to propose airworthiness standards for their particular primary category aircraft. The FAA procedure establishing appropriate airworthiness standards includes reviewing and possibly revising the applicant's proposal, publication of the submittal in the Federal Register for public review and comment, and addressing the comments. After all necessary revisions, the standards are published as approved FAA airworthiness standards.

Accordingly, the applicant, OHA, Inc., has submitted a request to the FAA to include the following:

Proposed Airworthiness Standards for Acceptance Under the Primary Category Rule

For All Airplane Modifications and the Powerplant Installation

Part 3 of the Civil Air regulations (CAR 3), effective November 1, 1949, as amended by 3-1 through 3-12, except for § 3.415, Engines and § 3.416(a), Propellers; and 14 CFR part 23, §§ 23.603, 23.863, 23.907, 23.961, 23.1322 and 23.1359 (latest amendments through Amendment 23-59) as applicable to these airplanes.

For Engine Assembly Certification

Joint Aviation Requirements 22 (JAR 22), “Sailplanes and Powered Sailplanes,” Change 5, dated October 28, 1995, Subpart H only.

For Propeller Certification

14 CFR part 35 as amended through 35-8 except § 35.1 (or a propeller with an FAA type certificate may be used).

For Noise Standards

14 CFR part 36, Amendment 36-28, Appendix G.

Issued in Kansas City, Missouri, on June 14, 2010.
Sandra J. Campbell,
Acting Manager, Small Airplane Directorate, Aircraft Certification Service.

[FR Doc. 2010-14975 Filed 6-18-10; 8:45 am]

BILLING CODE 4910-13-P